DEPARTMENT OF HEALTH AND HUMAN SERVICES

Centers for Disease Control and Prevention

[60Day-21-0856; Docket No. CDC-2021-0058]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed and/or continuing information collection, as required by the Paperwork Reduction Act of 1995. This notice invites comment on an information collection project titled National Quitline Data Warehouse. The National Quitline Data Warehouse (NQDW) collects a core set of information from all U.S. states, the District of Columbia, Guam, Puerto Rico, and the Asian Smoker's Quitline, regarding what services telephone quitlines offer to tobacco users as well as the number and type of tobacco users who receive services from telephone quitlines.

DATES: CDC must receive written comments on or before September 7, 2021.

ADDRESSES: You may submit comments, identified by Docket No. CDC-2021-0058 by any of the following methods:

• Federal eRulemaking Portal: Regulations.gov. Follow the instructions for submitting comments.

• Mail: Jeffrey M. Zirger, Information Collection Review Office, Centers for Disease Control and Prevention, 1600 Clifton Road NE, MS-D74, Atlanta, Georgia 30329.

Instructions: All submissions received must include the agency name and Docket Number. CDC will post, without change, all relevant comments to Regulations.gov.

Please note: Submit all comments through the Federal eRulemaking portal (regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS-D74, Atlanta, Georgia 30329; phone: 404-639-7118; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

National Quitline Data Warehouse (OMB Control No. 0920-0856, Exp. 10/31/2022)—Revision—National Center for Chronic Disease Prevention and Health Promotion (NCCDPHP), Centers for Disease Control and Prevention (CDC).

Background and Brief Description

Since 2010, the National Quitline Data Warehouse (NQDW) has collected a core set of information from the 50 U.S. states, the District of Columbia, Guam, and Puerto Rico regarding what services telephone quitlines offer to tobacco users as well as the number and type of tobacco users who receive services from telephone quitlines. The data collection was modified in 2015 to collect data from the Asian Smokers' Quitline (ASQ) in addition to the other 53 states/territories that provide data, and included five new questions to the NQDW Intake Questionnaire to help CDC and states tailor quitline services to the needs of its callers. Additionally, collection of the NQDW Services Survey was changed from quarterly to semiannually in 2019.

The NQDW provides data on the general smoking population who contact their state quitlines, but also allows for collections of information about key subgroups of tobacco users who contact state quitlines to better support cessation services. Data is collected on tobacco users who received service from state telephone quitlines from all funded U.S. states, territories, and the Asian Smokers' Quitline (ASQ) through the NQDW Intake Questionnaire. The NQDW Seven-month Follow-up Questionnaire is administered to tobacco users who received services from the ASQ only. Data on the quitline call volume, number of tobacco users served, and the services offered by state quitlines will be provided by state health department personnel who manage the quitline, or their designee, such as contracted quitline service providers, using the NQDW Quitline Services Survey. Data collected from the NQDW is analyzed with simple descriptive data tabulations, and trends are currently reported online through the CDC State Tobacco Activities Tracking and Evaluation (STATE) System website. More complex statistical analyses, including multivariate regression techniques will be utilized to assess quitline outcomes such as quitline reach, service utilization, how callers reported hearing about the quitline, and the effectiveness of quitline promotions and the CDC Tips From Former Smokers national tobacco education media campaigns on state quitline call volume, and tobacco users receiving services from state quitlines. CDC uses the information collected by the NQDW for ongoing monitoring, reporting, and evaluation related to state quitlines. Select data from the NQDW are reported online through the CDC's STATE System website (http://www.cdc.gov/statesystem).

CDC requests OMB approval to continue the NQDW information collection for three years. This Revision reflects inclusion of additional measures, including those related to e-cigarette use and online quitline services, that reflect the impact of new technologies. Adding these measures to the NQDW survey instruments will impose minimal additional burden on states but will substantially improve the utility of the NQDW data to identify use of state quitlines by key tobacco use populations and through modalities other than telephone calls. Participation in the caller intake and follow-up interviews is voluntary for quitline callers. The estimated burden is 10 minutes for a complete intake call conducted with an individual who calls on their own behalf. The estimated burden is one minute for a caller who requests information for someone else, as these callers complete only a subset of questions on the intake questionnaire.

As a condition of funding (CDC-RFA-DP20-2001), the 54 cooperative agreement awardees are required to submit NQDW intake data quarterly, and services survey data semiannually. CDC recognizes that awardees incur additional burden for preparing and transmitting summary files with their de-identified caller intake and follow-up data. This burden is acknowledged in the instructions for transmitting the electronic data files. There is a net decrease in burden hours from the previous NQDW package estimate. This is primarily due to decreases in the overall number of telephone calls to the quitlines, which is estimated to be only partially offset by the use of other quitline modalities. The total estimated annual Burden Hours for the NQDW are 68,088. There is no cost to respondents other than their time to participate.

Estimated Annualized Burden Hours
Type of respondent | Form name | Number of respondents | Number of responses per respondent | Average burden per respondent (in hours) | Total burden (in hours)
Quitline participants who contact the quitline for help for themselves | NQDW Intake Questionnaire (English-complete) | 405,053 | 1 | 10/60 | 67,509
| ASQ Intake Questionnaire (Chinese, Korean, or Vietnamese-complete) | 1,686 | 1 | 10/60 | 281
| ASQ Seven-Month Follow-up Questionnaire | 236 | 1 | 7/60 | 28
Participants who contact the quitline on behalf of someone else | NQDW Intake Questionnaire (English-subset) ASQ Intake Questionnaire (Chinese, Korean, or Vietnamese-subset) | 819 249 | 1 1 | 1/60 1/60 | 14 4
Tobacco Control Manager or their Designee/quitline Service Provider | Submission of NQDW Intake Questionnaire Electronic Data File to CDC | 54 | 4 | 1 | 216
| Submission of NQDW (ASQ) Seven-Month Follow-up Electronic Data File to CDC | 1 | 1 | 1 | 1
| NQDW Quitline Services Survey | 54 | 2 | 20/60 | 36
Total |  |  |  |  | 68,088

Jeffrey M. Zirger,
Lead, Information Collection Review Office, Office of Scientific Integrity, Office of Science, Centers for Disease Control and Prevention.

[FR Doc. 2021-14441 Filed 7-6-21; 8:45 am]

BILLING CODE 4163-18-P